NUCLEAR REGULATORY COMMISSION

[Docket Nos. 50-313, 50-368, 50-416, 50-247, 50-286, 50-255, 50-293, 50-458, and 50-382; License Nos. DRP-51, NPF-6, NPF-29, DPR-26, DPR-64, DPR-20, DPR-35, NPF-47, and NPF-38; EA-17-132 and EA-17-153; NRC-2018-0065]

In the Matter of Entergy Nuclear Operations, Inc. and Entergy Operations, Inc.; Arkansas Nuclear One, Grand Gulf Nuclear Station, Indian Point Energy Center, Palisades Nuclear Plant, Pilgrim Nuclear Power Station, River Bend Station, and Waterford Steam Electric Station, Unit 3

AGENCY: Nuclear Regulatory Commission.

ACTION: Confirmatory order; issuance.

SUMMARY: The U.S. Nuclear Regulatory Commission (NRC) issued a Confirmatory Order to Entergy (Entergy Nuclear Operations, Inc., and Entergy Operations, Inc.) as a result of a successful alternative dispute resolution mediation session. The commitments were made as part of a settlement agreement between Entergy and the U.S. Nuclear Regulatory Commission (NRC) subject to the satisfactory completion of the additional actions Entergy committed to take, as described in the Confirmatory Order. The NRC will not issue a Notice of Violation and will not issue an associated civil penalty for the apparent violations.

DATES: The order was issued on March 8, 2018.

ADDRESSES: Please refer to Docket ID NRC-2018-0065 when contacting the NRC about the availability of information regarding this document. You may obtain publicly-available information related to this document using any of the following methods:

• Federal Rulemaking website: Go to http://www.regulations.gov and search for Docket ID NRC-2018-0065. Address questions about NRC dockets to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: G. Michael Vasquez, Region IV, telephone: 817-200-1182; email Michael.Vasquez@nrc.gov and John Kramer, Region IV, telephone: 817-200-1121; email John.Kramer@nrc.gov. Both are staff of the U.S. Nuclear Regulatory Commission, Washington, DC 20555-0001.

SUPPLEMENTARY INFORMATION:

The text of the Order is attached.

Dated at Arlington, Texas, this 29th day of March 2018.
For the Nuclear Regulatory Commission.
Kriss M. Kennedy,
Regional Administrator, Region IV.

UNITED STATES OF AMERICA

NUCLEAR REGULATORY COMMISSION

In the Matter of Power Reactor Facilities Owned and Operated by Entergy Nuclear Operations, Inc. and Entergy Operations, Inc.

Docket Nos. (Attachment 1)

License Nos. (Attachment 1)

EA-17-132

EA-17-153

CONFIRMATORY ORDER MODIFYING LICENSE (EFFECTIVE UPON ISSUANCE)

I

The licensees identified in Attachment 1 to this Confirmatory Order hold licenses issued by the U.S. Nuclear Regulatory Commission (NRC or Commission) authorizing operation of nuclear power plants in accordance with the Atomic Energy Act of 1954, as amended, and Part 50 of title 10 of the Code of Federal Regulations (10 CFR), “Domestic Licensing of Production and Utilization Facilities.”

The term “Entergy fleet” or “fleet” refers to all nuclear power plants identified in Attachment 1 to this Confirmatory Order. The term “Entergy” refers to the following licensees: Entergy Operations, Inc. and Entergy Nuclear Operations, Inc. The term “willful violations” as defined in the NRC Enforcement Policy encompasses conduct involving either a careless disregard for requirements or a deliberate violation of requirements or falsification of information.

This Confirmatory Order is the result of a preliminary settlement agreement reached during an alternative dispute resolution (ADR) mediation session conducted on February 6, 2018.

II

On November 5, 2015, the NRC's Office of Investigations (OI), Region IV Field Office, opened an investigation (OI Case 4-2016-004) at Entergy's Grand Gulf Nuclear Station to determine whether an examination proctor willfully compromised examinations by providing inappropriate assistance to trainees. On July 21, 2017, the investigation was completed. On March 6, 2017, OI opened an investigation (OI Case 4-2017-021) at Entergy's Grand Gulf Nuclear Station to determine whether nonlicensed operators willfully failed to tour all required areas of their watch station and willfully entered inaccurate information into the operator logs. On August 25, 2017, the investigation was completed.

Based on the results of the investigations, the NRC identified a total of three apparent violations that were being considered for escalated enforcement action in accordance with the NRC Enforcement Policy, which were documented in NRC letter dated November 20, 2017 (NRC Inspection Report 05000416/2017014). The apparent violations included: (1) a failure to meet 10 CFR 50.120, “Training and qualification of nuclear power plant personnel,” between January and September 2015, in that, an examination proctor inappropriately provided assistance on general employee training examinations to non-utility (contractor) personnel; (2) a failure to meet 10 CFR part 50, Appendix B, Criterion V, “Instructions, Procedures, and Drawings,” between February and December 2016, in that, three nonlicensed operators failed to tour all required areas of their watch station; and (3) a failure to meet 10 CFR 50.9, “Completeness and accuracy of information,” between February and December 2016, in that, three nonlicensed operators created inaccurate documents, which indicated that their rounds had been performed when they had not been completed.

By letter dated November 20, 2017, the NRC notified Entergy of the results of the investigation, informed Entergy that escalated enforcement action was being considered for the apparent violations, and offered Entergy the opportunity to attend a predecisional enforcement conference or to participate in an ADR mediation session in an effort to resolve the concerns.

In response to the NRC's offer, Entergy requested the use of the NRC's ADR process to resolve the concerns. On February 6, 2018, the NRC and Entergy met in an ADR session mediated by a professional mediator arranged through the Cornell University Scheinman Institute on Conflict Resolution. The ADR process is one in which a neutral mediator, with no decision-making authority, assists the parties in reaching an agreement on resolving any differences regarding the dispute. This Confirmatory Order is issued pursuant to the agreement reached during the ADR process.

III

During the ADR session held on February 6, 2018, Entergy and the NRC reached a preliminary settlement agreement. The elements of the agreement include the following:

Violations

A. The NRC has concluded that deliberate violations of 10 CFR 50.120 occurred at Grand Gulf Nuclear Station between January and September 2015, when general employee training examinations provided to non-utility (contractor) personnel were inappropriately proctored. In addition, the NRC has concluded that deliberate violations of 10 CFR part 50, Appendix B, Criterion V, and 10 CFR 50.9 occurred between February and December 2016 when three nonlicensed operators failed to tour all required areas of their watchstation and falsified the rounds for their assigned area. Entergy agrees with this conclusion.

Communications with Site Workers

B. Within 1 month of the issuance date of the Confirmatory Order, a licensee senior executive at each Entergy site and the corporate nuclear headquarters will communicate with workers the circumstances leading to this Confirmatory Order, that willful violations will not be tolerated, and, as a result, Entergy will be undertaking efforts to confirm whether others are engaging in such conduct at any of its sites. The communication will stress the importance of procedural adherence, ensuring that documents are complete and accurate, and of potential consequences for engaging in willful violations. This message will be balanced with the recognition that people do make mistakes and when that happens the mistake will be identified and documented.

C. Entergy will conduct semi-annual communications with workers in the Entergy fleet reemphasizing its intolerance of willful misconduct and updating the workforce on the status of compliance with this Confirmatory Order until December 31, 2019. Starting in 2020, Entergy will conduct annual training emphasizing its intolerance of willful misconduct.

Causal Evaluation of Previous Corrective Actions to Deter Willful Violations

D. Within 6 months of the issuance date of the Confirmatory Order, Entergy will perform a causal evaluation, informed by site evaluations, to determine why prior fleet-wide corrective actions from Confirmatory Orders and other willful violations issued after January 1, 2009, were not fully successful in preventing or minimizing instances of willful misconduct across the fleet. The causal evaluation will include the following elements:

1. Problem identification;

2. Root cause, extent of condition (including an assessment of work groups that perform NRC-regulated activities to determine whether those workers are engaging in willful misconduct), and extent of cause evaluation;

3. Corrective actions, with time frame for their completion; and

4. Safety culture attributes.

E. Entergy will identify specific criteria necessary to perform annual effectiveness reviews of the corrective actions. The annual effectiveness reviews will include insights from fleet and individual site performance. Entergy will perform annual effectiveness reviews for 3 years. Entergy will modify its corrective actions, as needed, based on the results of the annual effectiveness reviews.

F. For the Grand Gulf Nuclear Station, the evaluation described in Element D will address the three violations which are the subject of this ADR mediation session (refer to the NRC's letter dated November 20, 2017).

G. Corrective actions identified as a result of the above evaluations will be implemented within 18 months of completion of the evaluation unless they involve a plant modification.

Organizational Health Survey

H. Within 12 months of the issuance date of the Confirmatory Order, the Grand Gulf Nuclear Station, as well as all Entergy fleet sites, will conduct an organizational health survey developed by a third-party and designed, in part, to identify safety culture concerns that could contribute to willful misconduct.

I. A second organizational health survey will be conducted within 18 months of completion of the survey in Element H.

J. If safety culture concerns are identified through the survey, Entergy will initiate corrective actions to mitigate the likelihood of willful misconduct occurring.

Notifications to the NRC When Actions Are Completed

K. Within 1 month of completion of Element D, Entergy will submit written notification to the appropriate Regional Administrators.

L. By December 31 of each calendar year from 2018 through 2020, Entergy will provide in writing to the appropriate Regional Administrators a summary of the actions implemented across the fleet as a result of this Confirmatory Order and the results of any effectiveness reviews performed.

M. Upon completion, Entergy will submit in writing to the Region IV Regional Administrator its basis for concluding that the terms of the Confirmatory Order have been completed.

NRC Considerations for Future Enforcement Action

N. This Confirmatory Order does not affect other potential future escalated enforcement actions, including ongoing investigations by the NRC's Office of Investigations. However, as part of its deliberations and consistent with the philosophy of the Enforcement Policy, Section 3.3, “Violations Identified Because of Previous Enforcement Action,” the NRC will consider enforcement discretion for violations with similar root causes that occur prior to or during implementation of the corrective actions specified in the Confirmatory Order.

Administrative Items

O. The NRC and Entergy agree that the above elements will be incorporated into a Confirmatory Order.

P. The NRC will consider the Confirmatory Order an escalated enforcement action with respect to any future enforcement actions.

Q. In consideration of the elements delineated above, the NRC agrees not to issue a Notice of Violation for the violations discussed in NRC Inspection Report 05000416/2017014 and NRC Investigation Reports 4-2016-004 and 4-2017-021 dated November 20, 2017, (EA-17-132 and EA-17-153) and not to issue an associated civil penalty.

R. The press release will acknowledge that Entergy Operations, Inc., identified the willful violations that are the subject of this Confirmatory Order.

S. This agreement is binding upon successors and assigns of Entergy.

On March 6, 2018, Entergy consented to issuing this Confirmatory Order with the commitments, as described in Section V below. Entergy further agreed that this Confirmatory Order is to be effective upon issuance, the agreement memorialized in this Confirmatory Order settles the matter between the parties, and that it has waived its right to a hearing.

IV

Because the licensee has agreed to take additional actions to address NRC concerns, as set forth in Section III above, the NRC has concluded that its concerns can be resolved through issuance of this Confirmatory Order.

I find that Entergy's commitments as set forth in Section V are acceptable and necessary, and conclude that with these commitments the public health and safety are reasonably assured. In view of the foregoing, I have determined that public health and safety require that Entergy's commitments be confirmed by this Confirmatory Order. Based on the above and Entergy's consent, this Confirmatory Order is effective upon issuance.

V

Accordingly, pursuant to Sections 104b, 161b, 161i, 161o, 182, and 186 of the Atomic Energy Act of 1954, as amended, and the Commission's regulations in 10 CFR 2.202 and 10 CFR part 50, IT IS HEREBY ORDERED, THAT LICENSE NOS. DRP-51; NPF-6, NPF-29, DPR-26, DPR-64, DPR-20, DPR-35, NPF-47 and NPF-38 ARE MODIFIED AS FOLLOWS:

Communications with Site Workers

A. Within 1 month of the issuance date of the Confirmatory Order, a licensee senior executive at each Entergy site and the corporate nuclear headquarters will communicate with workers the circumstances leading to this Confirmatory Order, that willful violations will not be tolerated, and, as a result, Entergy will be undertaking efforts to confirm whether others are engaging in such conduct at any of its sites. The communication will stress the importance of procedural adherence, ensuring that documents are complete and accurate, and of potential consequences for engaging in willful violations. This message will be balanced with the recognition that people do make mistakes and when that happens, it is Entergy's expectation that its employees and contractors will identify and document issues accordingly.

B. Within 6 months of the completion of Element A, Entergy will conduct semi-annual communications with workers in the Entergy fleet reemphasizing its intolerance of willful misconduct and updating the workforce on the status of compliance with this Confirmatory Order until December 31, 2019. Starting in 2020, Entergy will conduct annual training emphasizing its intolerance of willful misconduct.

Causal Evaluation of Previous Corrective Actions to Deter Willful Violations

C. Within 6 months of the issuance date of the Confirmatory Order, Entergy will perform a causal evaluation, informed by site evaluations, to determine why prior fleet-wide corrective actions from Confirmatory Orders and other willful violations issued after January 1, 2009, were not fully successful in preventing or minimizing instances of willful misconduct across the fleet. The causal evaluation will include the following elements:

1. Problem identification;

2. Root cause, extent of condition (including an assessment of work groups that perform NRC regulated activities to determine whether those workers are engaging in willful misconduct), and extent of cause evaluation;

3. Corrective actions, with time frame for their completion; and

4. Safety culture attributes.

D. Entergy will identify specific criteria necessary to perform annual effectiveness reviews of the corrective actions. The annual effectiveness reviews will include insights from fleet and individual site performance. Entergy will perform annual effectiveness reviews for 3 years. Entergy will modify its corrective actions, as needed, based on the results of the annual effectiveness reviews.

E. For the Grand Gulf Nuclear Station, the evaluation described in Element C will address the three violations that are the subject of this ADR mediation session (refer to the NRC's letter dated November 20, 2017).

F. Corrective actions identified as a result of the above evaluations will be implemented within 18 months of completion of the evaluation unless they involve a plant modification.

Organizational Health Survey

G. Within 12 months of the issuance date of the Confirmatory Order, the Grand Gulf Nuclear Station, as well as all Entergy fleet sites, will conduct an organizational health survey developed by a third-party and designed, in part, to identify safety culture concerns that could contribute to willful misconduct.

H. A second organizational health survey will be conducted within 18 months of completion of the survey in Element G.

I. If safety culture concerns are identified through the survey, Entergy will document and initiate corrective actions within 2 months of the concern identification to mitigate the likelihood of willful misconduct occurring.

Notifications to the NRC When Actions Are Completed

J. Within 1 month of completion of Element C, Entergy will submit written notification to the appropriate Regional Administrators.

K. By December 31 of each calendar year from 2018 through 2020, Entergy will provide in writing to the appropriate Regional Administrators a summary of the actions implemented across the fleet as a result of this Confirmatory Order and the results of any effectiveness reviews performed.

L. Upon completion, Entergy will submit in writing to the Region IV Regional Administrator its basis for concluding that the terms of the Confirmatory Order have been completed.

NRC Considerations for Future Enforcement Action

This Confirmatory Order does not affect other potential future escalated enforcement actions, including ongoing investigations by the NRC's Office of Investigations. However, as part of its deliberations and consistent with the tenets of the Enforcement Policy, Section 3.3, “Violations Identified Because of Previous Enforcement Action,” the NRC will consider enforcement discretion for violations that meet the criteria for discretion under Section 3.3 of the Enforcement Policy.

Administrative Items

This agreement is binding upon successors and assigns of Entergy. The NRC will consider the Confirmatory Order an escalated enforcement action with respect to any future enforcement actions at the Grand Gulf Nuclear Station only. The Regional Administrator, Region IV, may, in writing, relax or rescind any of the above conditions upon demonstration by Entergy of good cause.

VI

In accordance with 10 CFR 2.202 and 10 CFR 2.309, any person adversely affected by this Confirmatory Order, other than Entergy, may request a hearing within 30 days of the issuance date of this Confirmatory Order. Where good cause is shown, consideration will be given to extending the time to request a hearing. A request for extension of time must be directed to the Director, Office of Enforcement, U.S. Nuclear Regulatory Commission, Washington, DC 20555, and include a statement of good cause for the extension.

All documents filed in NRC adjudicatory proceedings, including a request for hearing, a petition for leave to intervene, any motion or other document filed in the proceeding prior to the submission of a request for hearing or petition to intervene (hereinafter “petition”), and documents filed by interested governmental entities participating under 10 CFR 2.315(c), must be filed in accordance with the NRC's E-Filing rule (72 FR 49139, August 28, 2007, as amended at 77 FR 46562, August 3, 2012). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by e-mail at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-filing system. To be timely, an electronic filing must be submitted to the E-Filing system no later than 11:59 p.m. Eastern Time on the due date. Upon receipt of a transmission, the E-Filing system time-stamps the document and sends the submitter an e-mail notice confirming receipt of the document.

The E-Filing system also distributes an e-mail notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's Public Web site at http://www.nrc.gov/site-help/e-submittals.html, by e-mail to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff.

Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an Order of the Commission or the presiding officer. If you do not have an NRC-issued digital ID certificate as described above, click “Cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

If a person (other than Entergy) requests a hearing, that person shall set forth with particularity the manner in which his interest is adversely affected by this Confirmatory Order and shall address the criteria set forth in 10 CFR 2.309(d) and (f).

If a hearing is requested by a person whose interest is adversely affected, the Commission will issue an order designating the time and place of any hearings. If a hearing is held, the issue to be considered at such hearing shall be whether this Confirmatory Order should be sustained.

In the absence of any request for hearing, or written approval of an extension of time in which to request a hearing, the provisions specified in Section V above shall be final 30 days from the date of this Confirmatory Order without further order or proceedings. If an extension of time for requesting a hearing has been approved, the provisions specified in Section V shall be final when the extension expires if a hearing request has not been received.

For the Nuclear Regulatory Commission

Kriss M. Kennedy

Regional Administrator

NRC Region IV

Dated this 8th day of March 2018

POWER REACTOR FACILITIES OWNED AND OPERATED BY ENTERGY NUCLEAR OPERATIONS, INC. AND ENTERGY OPERATIONS, INC.

Arkansas Nuclear One, Units 1 and 2

Entergy Operations, Inc.

Docket Nos. 50-313, 50-368

License Nos. DRP-51; NPF-6

Mr. Richard L. Anderson, Site Vice President

Arkansas Nuclear One

Entergy Operations, Inc.

N-TSB-58

1448 S.R. 333

Russellville, AR 72802-0967

Grand Gulf Nuclear Station

Entergy Operations, Inc.

Docket No. 50-416

License No. NPF-29

Mr. Eric Larson, Site Vice President

Grand Gulf Nuclear Station

Entergy Operations, Inc.

P.O. Box 756

Port Gibson, MS 39150

Indian Point Nuclear Generating, Units 2 and 3

Entergy Nuclear Operations, Inc.

Docket Nos. 50-247 and 50-286

License Nos. DPR-26 and DPR-64

Mr. Anthony Vitale, Site Vice President

Indian Point Energy Center

Entergy Nuclear Operations, Inc.

450 Broadway, General Services Building

P.O. Box 249

Buchanan, NY 10511-0249

Palisades Nuclear Plant

Entergy Nuclear Operations, Inc.

Docket No. 50-255

License No. DPR-20

Mr. Charles Arnone, Vice President, Operations

Palisades Nuclear Plant

Entergy Nuclear Operations, Inc.

27780 Blue Star Memorial Highway

Covert, MI 49043-9530

Pilgrim Nuclear Power Station

Entergy Nuclear Operations, Inc.

Docket No. 50-293

License No. DPR-35

Mr. Brian Sullivan, Site Vice President

Pilgrim Nuclear Power Station

Entergy Nuclear Operations, Inc.

600 Rocky Hill Road

Plymouth, MA 02360-5508

River Bend Station

Entergy Operations, Inc.

Docket No. 50-458

License No. NPF-47

Mr. William F. Maguire, Site Vice President

River Bend Station

Entergy Operations, Inc.

5485 U.S. Highway 61N

St. Francisville, LA 70775

Waterford Steam Electric Station, Unit 3

Entergy Operations, Inc.

Docket No. 50-382

License No. NPF-38

Mr. John Dinelli, Site Vice President

Waterford Steam Electric Station, Unit 3

Entergy Operations, Inc.

17265 River Road

Killona, LA 70057-0751

[FR Doc. 2018-06819 Filed 4-3-18; 8:45 am]

BILLING CODE 7590-01-P